DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974 (5 U.S.C. 552a), as amended.

The alteration consists of adding a new category of individuals covered in the system of records, i.e., enlisted soldiers.

DATE: This proposed action will be effective without further notice on February 22, 2000, unless comments are received which result in a contrary determination.

ADDRESSES: Privacy Act Officer, Records Management Program Division, U.S. Total Army Personnel Command, ATTN: TAPC-PDR-P, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The proposed system report, was required by 5 U.S.C. 552a(r) of the Privacy Act of 1974, as amended, was submitted on January 5, 2000 to the House Committee on Government Reform, the Senate Committee on Governmental Affairs, and the Office of Management and Budget (OMB) pursuant to paragraph 4c to Appendix I to OMB Circular No. A-130, “Federal Agency Responsibilities for Maintaining Records About Individuals,” dated February 8, 1996 (February 20, 1996, 61 FR 6427).

Dated: January 3, 2000.
L.M. Bynum,
Alternate OSD Federal Register Liaison Officer, Department of Defense.

A0600-8-104c NGB

System Name:

Official Military Personnel File (Army National Guard) (December 23, 1997, 62 FR 67055).

Changes:

* * * * *

Categories of Individuals Covered by the System:

Add “enlisted soldiers” to the entry.

* * * * *

Routine Uses of Records Maintained in the System, Including Categories of Users and The Purposes of such uses:

Delete paragraph 9.

* * * * *

A0600-8-104c NGB

System Name:

Official Military Personnel File (Army National Guard).

System Location:

National Guard Bureau, Army National Guard Readiness Center, ATTN: NGB-ARP-C, 111 South George Mason Drive, Arlington, VA 22204-1382.

Categories of Individuals Covered by the System:

Each commissioned, warrant officer or enlisted soldier in the Army National Guard not on active duty.

Categories of Records in the System:

Records include enlistment contract, physical evaluation board proceedings; statement of service; group list insurance election; emergency data form; application for appointment; qualification/evaluation report; oath of office; medical examination; security clearance; application for retired pay; application for correction of military records; application for active duty; transfer or discharge; active duty report; voluntary reduction; line of duty and misconduct determinations; discharge or separation reviews; police record checks; consent/declaration of parent/guardian; award recommendations; academic reports; casualty reports; field medical card; retirement points; deferment; pre-induction processing and commissioning data; transcripts of military records; survivor benefit plans; efficiency reports; records of proceedings, 10 U.S.C. 815 and appellate actions; determination of moral eligibility; waiver of disqualifications; temporary disability record; change of name; statements of enlistment; retired benefits; application for review by physical evaluation board; birth certificate; citizenship statements and status; educational transcripts; flight status board reviews; efficiency appeals; promotion/reduction/recommendations approvals/declinations announcements/notifications and reconsiderations; notification to deferred officers and promotion passover notifications; absence without leave and desertion records; FBI reports; Social Security Administration correspondence; miscellaneous correspondence, documents, and orders relating to military service including information pertaining to dependents, inter or intraservice details, determinations, reliefs; pay entitlements, releases, transfers; and other relevant documents.

Authority for Maintenance of the System:

5 U.S.C. 301, Departmental Regulations, 10 U.S.C. 3013, Secretary of the Army; Army Regulation 600-8-104, Military Personnel Information Management/Records; and E.O. 9397 (SSN).

Purpose(s):

These records are created and maintained to manage the member's Army National Guard service effectively; document the member's military service history; and, safeguard the rights of the member and the Army.

Routine Uses of Records Maintained in the System, Including Categories of Users and The Purposes of such uses:

In addition to those disclosures generally permitted under 5 U.S.C. 552a(b) of the Privacy Act, these records or information contained therein may specifically be disclosed outside the DoD as a routine use pursuant to 5 U.S.C. 552a(b)(3) as follows:

To the Department of State to issue passport/visa; to document persona-non-grata status, attache assignments, and related administration of personnel assigned and performing duty with the Department of State.

To the Department of Justice to file fingerprint cards; to perform intelligence function.

To the Department of Labor to accomplish actions required under Federal Employees Compensation Act.

To the Department of Health and Human Services to provide services authorized by medical and health functions authorized by 10 U.S.C. 1074-1079.

To the Atomic Energy Commission to accomplish requirements incident to Nuclear Accident/Incident Control Officer functions.

To the American Red Cross to accomplish coordination and complete service functions including blood donor programs and emergency investigative support and notifications.

To the Federal Aviation Agency to obtain flight certification and licenses.

To the U.S. Postal Service to accomplish postal service authorization.

To the Department of Veterans Affairs to provide information relating to benefits, pensions, in-service loans, insurance, and appropriate hospital support.

To the Bureau of Immigration and Naturalization to comply with statutes relating to in-service alien registration, and annual residence information.

To the Office of the President of the United States of America: To exchange required information relating to White House Fellows, regular Army promotions, aides, and related support functions staffed by Army members.

To the Federal Maritime Commission to obtain licenses for military members accredited as captain, made, and harbor master for duty as Transportation Corps warrant officer.

To each state and U.S. possession to support state bonus applications; to fulfill income tax requirements appropriate to the service member's home of record; to record name changes in state bureaus of vital statistics; and for National Guard Affairs.

To civilian educational, and training institutions to accomplish student registration, tuition support, Graduate Record Examination tests requirements, and related school requirements incident to in-service education programs in compliance with 10 U.S.C., Chapters 102 and 103.

To the Social Security Administration to obtain or verify Social Security Numbers; to transmit Federal Insurance Compensation Act deductions made from in-service members' wages.

To the Department of Transportation to coordinate and exchange necessary information pertaining to inter-service relationships between U.S. Coast Guard and Army National Guard when service members perform duty with the U.S. Coast Guard elements or training activities.

To Civil Authorities for Compliance with 10 U.S.C. 814.

Note: Record of the identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute take precedence over the Privacy Act of 1974, in regard to accessibility of such records except to the individual to whom the record pertains. Blanket Routine Uses do not apply to these records.

The “Blanket Routine Uses” set forth at the beginning of the Army's compilation of systems of records notices also apply to this system.

Policies and Practices for Storing, Retrieving, Accessing, Retaining, and Disposing of Records in the System:

Storage:

Microfiche are stored on (PERMS/ODI) Personnel Electronic Record Management System/Optical Digital Imagery. Temporary files purged and scanned on ODL, selected data automated for management purposes on disks, and (COM) Computer Output Microfiche.

retrievability:

By Social Security Number.

Safeguards:

Records are maintained in secured areas accessible only to authorized personnel; automated media protected by authorized password system for access terminals, controlled access to operation rooms, and controlled output distribution.

Retention and Disposal:

Microfiche and paper records are permanent: retained in active file until termination of service following which they are retired to the custody of the Commander, U.S. Army Reserve Personnel Command, One Reserve Way, St. Louis, MO 63132-5200.

System Manager(s) and Address:

National Guard Bureau, Army National Guard Readiness Center, ATTN: NGB-ARP-C, 111 South George Mason Drive, Arlington, VA 22204-1382.

Notification Procedure:

Individuals seeking to determine if information about themselves is contained in this record system should address written inquiries to the National Guard Bureau, Army National Guard Readiness Center, ATTN: NGB-ARP-C, 11 South George Mason Drive, Arlington, VA 22204-1382.

For verification purposes, individual should provide full name, service identification number, current or former military status, current home address, and signature.

Record Access Procedures:

Individuals seeking access to records about themselves contained in this record system should address written inquiries to the National Guard Bureau, Army National Guard Readiness Center, ATTN: NGB-ARP-C, 111 South George Mason Drive, Arlington, VA 22204-1382.

For verification purposes, individual should provide full name, service identification number, current or former military status, current home address, and signature.

Contesting Record Procedures:

The Army's rules for accessing records, and for contesting contents and appealing initial agency determinations and contained in Army Regulation 340-21; 32 CFR part 505; or may be obtained from the system manager.

Record Source Categories:

From the individual, educational and financial institutions, law enforcement agencies, personal references provided by the individual, Army records and reports, third parties when information furnished relates to the Service member's status.

Exemptions Claimed for the System:

None.

[FR Doc. 00-1310 Filed 1-19-00; 8:45 am]

BILLING CODE 5001-10-M